DEPARTMENT OF HOMELAND SECURITY

Federal Emergency Management Agency

[Docket ID FEMA-2018-0002; Internal Agency Docket No. FEMA-B-1834]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arkansas: Pulaski | City of Little Rock (18-06-0091P) | The Honorable Mark Stodola, Mayor, City of Little Rock, 500 West Markham Street, Room 203, Little Rock, AR 72201 | Department of Public Works, 701 West Markham Street, Little Rock, AR 72201 | https://msc.fema.gov/portal/advanceSearch | Sep. 4, 2018 | 050181
Connecticut: Fairfield | City of Norwalk (18-01-0702P) | The Honorable Harry W. Rilling, Mayor, City of Norwalk, 125 East Avenue, Norwalk, CT 06851 | Planning and Zoning Department, 125 East Avenue, Norwalk, CT 06851 | https://msc.fema.gov/portal/advanceSearch | Aug. 17, 2018 | 090012
Florida:
Alachua | Unincorporated areas of Alachua County (18-04-2705X) | The Honorable Lee Pinkoson, Chairman, Alachua County Board of Commissioners, 12 Southeast 1st Street, Gainesville, FL 32601 | Alachua County Public Works Department, 5620 Northwest 120th Lane, Gainesville, FL 32653 | https://msc.fema.gov/portal/advanceSearch | Sep. 7, 2018 | 120001
Lee | City of Sanibel (18-04-1789P) | The Honorable Kevin Ruane, Mayor, City of Sanibel, 800 Dunlop Road, Sanibel, FL 33957 | Planning Department, 800 Dunlop Road, Sanibel, FL 33957 | https://msc.fema.gov/portal/advanceSearch | Aug. 17, 2018 | 120402
Orange | Unincorporated areas of Orange County (17-04-8126P) | The Honorable Teresa Jacobs, Mayor, Orange County, 201 South Rosalind Avenue, 5th Floor, Orlando, FL 32801 | Orange County Storm Water Management Department, 4200 South John Young Parkway, Orlando, FL 32839 | https://msc.fema.gov/portal/advanceSearch | Aug. 17, 2018 | 120179
Pinellas | City of Dunedin (18-04-2226P) | Ms. Jennifer K. Bramley, Manager, City of Dunedin, 542 Main Street, Dunedin, FL 34698 | Planning and Development Department, 737 Louden Avenue, 2nd Floor, Dunedin, FL 34698 | https://msc.fema.gov/portal/advanceSearch | Sep. 4, 2018 | 125103
Polk | Unincorporated areas of Polk County (17-04-4685P) | The Honorable R. Todd Dantzler, Chairman, Polk County Board of Commissioners, 330 West Church Street, Bartow, FL 33831 | Polk County Land Development Division, 330 West Church Street, Bartow, FL 33831 | https://msc.fema.gov/portal/advanceSearch | Aug. 16, 2018 | 120261
St. Johns | Unincorporated areas of St. Johns County (18-04-2537P) | The Honorable Henry Dean, Chairman, St. Johns County Board of Commissioners, 500 San Sebastian View, St. Augustine, FL 32084 | St. Johns County Building Services Division, 4040 Lewis Speedway, St. Augustine, FL 32084 | https://msc.fema.gov/portal/advanceSearch | Aug. 31, 2018 | 125147
Sarasota | Unincorporated areas of Sarasota County (18-04-2558P) | The Honorable Nancy Detert, Chair, Sarasota County Board of Commissioners, 1660 Ringling Boulevard, Sarasota, FL 34236 | Sarasota County Building and Development Services Department, 1001 Sarasota Center Boulevard, Sarasota, FL 34240 | https://msc.fema.gov/portal/advanceSearch | Aug. 24, 2018 | 125144
Sarasota | Unincorporated areas of Sarasota County (18-04-2561P) | The Honorable Nancy Detert, Chair, Sarasota County Board of Commissioners, 1660 Ringling Boulevard, Sarasota, FL 34236 | Sarasota County Building and Development Services Department, 1001 Sarasota Center Boulevard, Sarasota, FL 34240 | https://msc.fema.gov/portal/advanceSearch | Sep. 10, 2018 | 125144
Volusia | City of Daytona Beach (18-04-2080P) | The Honorable Derrick L. Henry, Mayor, City of Daytona Beach, 301 South Ridgewood Avenue, Suite 200, Daytona Beach, FL 32114 | Utilities Department, 125 Basin Street, Suite 131, Daytona Beach, FL 32114 | https://msc.fema.gov/portal/advanceSearch | Aug. 28, 2018 | 125099
Kentucky:
Owsley | City of Booneville (17-04-7624P) | The Honorable Charles Long, Mayor, City of Booneville, P.O. Box 1, Booneville, KY 41314 | City Hall, 46 South Mulberry Street, Booneville, KY 41314 | https://msc.fema.gov/portal/advanceSearch | Aug. 31, 2018 | 210187
Owsley | Unincorporated areas of Owsley County (17-04-7624P) | The Honorable Cale Turner, Owsley County Judge Executive, P.O. Box 749, Booneville, KY 41314 | Owsley County Courthouse, 201 Court Street, Booneville, KY 41314 | https://msc.fema.gov/portal/advanceSearch | Aug. 31, 2018 | 210296
Maine: Lincoln | Town of Bristol (17-01-2489P) | The Honorable Chad Hanna, Chairman, Town of Bristol Board of Selectmen, P. O. Box 339, Bristol, ME 04539 | Code Enforcement Department, 1268 Bristol Road, Bristol, ME 04539 | https://msc.fema.gov/portal/advanceSearch | Aug. 17, 2018 | 230215
Massachusetts:
Essex | City of Lynn (18-01-0336P) | The Honorable Thomas M. McGee, Mayor, City of Lynn, 3 City Hall Square, Room 306, Lynn, MA 01901 | Inspectional Services Department, 3 City Hall Square, Room 401, Lynn, MA 01901 | https://msc.fema.gov/portal/advanceSearch | Aug. 13, 2018 | 250088
Essex | City of Newburyport (18-01-0751P) | The Honorable Donna D. Holaday, Mayor, City of Newburyport, 60 Pleasant Street, Newburyport, MA 01950 | Department of Planning and Development, 60 Pleasant Street, Newburyport, MA 01950 | https://msc.fema.gov/portal/advanceSearch | Aug. 31, 2018 | 250097
North Carolina: Union | Town of Waxhaw (18-04-1304P) | The Honorable Stephen Maher, Mayor, Town of Waxhaw, P.O. Box 6, Waxhaw, NC 28173 | Town Hall, 1150 North Broome Street, Waxhaw, NC 28173 | https://msc.fema.gov/portal/advanceSearch | Aug. 25, 2018 | 370473
Oklahoma: Tulsa | City of Tulsa (18-06-0745P) | The Honorable G.T. Bynum, Mayor, City of Tulsa, 175 East 2nd Street, 15th Floor, Tulsa, OK 74103 | Engineering Services Department, 2317 South Jackson Avenue, Tulsa, OK 74107 | https://msc.fema.gov/portal/advanceSearch | Sep. 10, 2018 | 405381
Pennsylvania: Montgomery | Borough of North Wales (18-03-0693P) | Ms. Christine A. Hart, Borough of North Wales Manager, 300 School Street, North Wales, PA 19454 | Zoning Department, 300 School Street, North Wales, PA 19454 | https://msc.fema.gov/portal/advanceSearch | Aug. 23, 2018 | 420704
Texas:
Bexar | City of San Antonio (17-06-4239P) | The Honorable Ron Nirenberg, Mayor, City of San Antonio, P.O. Box 839966, San Antonio, TX 78283 | Transportation and Capital Improvements Department, Stormwater Division, 1901 South Alamo Street, 2nd Floor, San Antonio, TX 78204 | https://msc.fema.gov/portal/advanceSearch | Aug. 20, 2018 | 480045
Bexar | Unincorporated areas of Bexar County (17-06-4239P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Aug. 20, 2018 | 480035
Denton | City of Denton (18-06-0064P) | The Honorable Chris A. Watts, Mayor, City of Denton, 215 East McKinney Street, Suite 100, Denton, TX 76201 | Engineering Department, 901-A Texas Street, Denton, TX 76509 | https://msc.fema.gov/portal/advanceSearch | Aug. 23, 2018 | 480194
Denton | Town of Shady Shores (18-06-0064P) | The Honorable Cindy Aughinbaugh, Mayor, Town of Shady Shores, 101 South Shady Shores Road, Shady Shores, TX 76208 | Planning and Zoning Department, 101 South Shady Shores Road, Shady Shores, TX 76208 | https://msc.fema.gov/portal/advanceSearch | Aug. 23, 2018 | 481135
Denton | Unincorporated areas of Denton County (18-06-0064P) | The Honorable Mary Horn, Denton County Judge, 110 West Hickory Street, 2nd Floor, Denton, TX 76201 | Denton County Public Works and Planning Department, 1505 East McKinney Street, Suite 175, Denton, TX 76209 | https://msc.fema.gov/portal/advanceSearch | Aug. 23, 2018 | 480774
Hays | City of Kyle (17-06-4031P) | The Honorable Travis Mitchell, Mayor, City of Kyle, P.O. Box 40, Kyle, TX 78640 | Storm Drainage and Flood Risk Mitigation, Utility Department, 100 West Center Street, Kyle, TX 78640 | https://msc.fema.gov/portal/advanceSearch | Aug. 16, 2018 | 481108
Hays | Unincorporated areas of Hays County (17-06-4031P) | The Honorable Bert Cobb, Hays County Judge, 111 East San Antonio Street, Suite 300, San Marcos, TX 78666 | Hays County Development Services Department, 2171 Yarrington Road, San Marcos, TX 78666 | https://msc.fema.gov/portal/advanceSearch | Aug. 16, 2018 | 480321
Johnson | City of Burleson (17-06-4103P) | Mr. Dale Cheatham, Manager, City of Burleson, 141 West Renfro Street, Burleson, TX 76028 | City Hall, 141 West Renfro Street, Burleson, TX 76028 | https://msc.fema.gov/portal/advanceSearch | Sep. 4, 2018 | 485459
Tarrant | City of Crowley (17-06-4103P) | The Honorable Billy P. Davis, Mayor, City of Crowley, 201 East Main Street, Crowley, TX 76036 | City Hall, 201 East Main Street, Crowley, TX 76036 | https://msc.fema.gov/portal/advanceSearch | Sep. 4, 2018 | 480591
Tarrant | City of Fort Worth (17-06-0155P) | The Honorable Betsy Price, Mayor, City of Fort Worth, 200 Texas Street, Fort Worth, TX 76102 | Transportation and Public Works, Engineering Department, 200 Texas Street, Fort Worth, TX 76102 | https://msc.fema.gov/portal/advanceSearch | Sep. 10, 2018 | 480596
Tarrant | City of Saginaw (17-06-0155P) | The Honorable Todd Flippo, Mayor, City of Saginaw, 333 West McLeroy Boulevard, Saginaw, TX 76179 | Public Works and Community Development Department, 205 Brenda Lane, Saginaw, TX 76179 | https://msc.fema.gov/portal/advanceSearch | Sep. 10, 2018 | 480610
Utah: Washington | City of St. George (18-08-0075P) | The Honorable Jonathan T. Pike, Mayor, City of St. George, 175 East 200 North, St. George, UT 84770 | City Hall, 175 East 200 North, St. George, UT 84770 | https://msc.fema.gov/portal/advanceSearch | Aug. 30, 2018 | 490177
Virginia:
Fauquier | Unincorporated areas of Fauquier County (17-03-2627P) | Mr. Paul S. McCulla, Fauquier County Administrator, 10 Hotel Street, Suite 204, Warrenton, VA 20186 | Fauquier County Zoning and Development Services Department, 29 Ashby Street, Suite 310, Warrenton, VA 20186 | https://msc.fema.gov/portal/advanceSearch | Aug. 9, 2018 | 510055
Loudoun | Unincorporated areas of Loudoun County (17-03-2543P) | Mr. Tim Hemstreet, Loudoun County Administrator, 1 Harrison Street Southeast, Leesburg, VA 20175 | Loudoun County Government Center, 1 Harrison Street Southeast, Leesburg, VA 20175 | https://msc.fema.gov/portal/advanceSearch | Aug. 10, 2018 | 510090
Prince William | City of Manassas (17-03-2321P) | Mr. William P. Pate, Manager, City of Manassas, 9027 Center Street, Suite 401, Manassas, VA 20110 | Department of Public Works and Engineering, 8500 Public Works Drive, Manassas, VA 20110 | https://msc.fema.gov/portal/advanceSearch | Sep. 13, 2018 | 510090
Prince William | Unincorporated areas of Prince William County (17-03-2321P) | Mr. Christopher E. Martino, Prince William County Executive, 1 County Complex Court, Prince William, VA 22192 | Prince William County Department of Public Works, 5 County Complex Court, Prince William, VA 22192 | https://msc.fema.gov/portal/advanceSearch | Sep. 13, 2018 | 510119
West Virginia:
Lincoln | Town of Hamlin (17-03-2229P) | The Honorable David Adkins, Mayor, Town of Hamlin, 220 Main Street, Hamlin, WV 25523 | Lincoln County Courthouse, 8000 Court Avenue, Hamlin, WV 25523 | https://msc.fema.gov/portal/advanceSearch | Aug. 16, 2018 | 540089
Lincoln | Unincorporated areas of Lincoln County (17-03-2229P) | The Honorable Charles N. Vance, President, Lincoln County Commission, P.O. Box 497, Hamlin, WV 25523 | Lincoln County Courthouse, 8000 Court Avenue, Hamlin, WV 25523 | https://msc.fema.gov/portal/advanceSearch | Aug. 16, 2018 | 540088
Logan | City of Logan (17-03-2459P) | The Honorable Serafino J. Nolletti, Mayor, City of Logan, 219 Dingess Street, Logan, WV 25601 | City Hall, 219 Dingess Street, Logan, WV 25601 | https://msc.fema.gov/portal/advanceSearch | Aug. 20, 2018 | 545535
Logan | Unincorporated areas of Logan County (17-03-2459P) | The Honorable Danny R. Godby, President, Logan County Commission, 300 Stratton Street, Logan, WV 25601 | Logan County Code Enforcement Officer's Office, 300 Stratton Street, Logan, WV 25601 | https://msc.fema.gov/portal/advanceSearch | Aug. 20, 2018 | 545536

[FR Doc. 2018-13091 Filed 6-18-18; 8:45 am]

BILLING CODE 9110-12-P